DEPARTMENT OF THE INTERIOR

Fish and Wildlife Service

[FWS-R4-ES-2012-N256; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by December 26, 2012.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR 17. This notice is provided under section 10(c) of the Act.

If you wish to comment, you may submit comments by any one of the following methods. You may mail comments to the Fish and Wildlife Service's Regional Office (see ADDRESSES section) or via electronic mail (email) to: permitsR4ES@fws.gov. Please include your name and return address in your email message. If you do not receive a confirmation from the Fish and Wildlife Service that we have received your email message, contact us directly at the telephone number listed above (see FOR FURTHER INFORMATION CONTACT section). Finally, you may hand deliver comments to the Fish and Wildlife Service office listed above (see ADDRESSES section).

Before including your address, telephone number, email address, or other personal identifying information in your comments, you should be aware that your entire comment—including your personal identifying information—may be made publicly available at any time. While you can ask us in your comments to withhold your personal identifying information from public review, we cannot guarantee that we will be able to do so.

Permit Application Number: TE-13844A

Applicant: Aquatic Resources Management, Lexington, Kentucky.

Applicant requests amendment to authorization to conduct presence/absence surveys for three (3) bat species, one(1) freshwater fish species, twelve (12) fresh-water mussel species, one (1) snake species, one (1) insect species and two (2) plant species in the State of Tennessee.

Permit Application Number: TE-7747

Applicant: U.S. Forest Service, National Forests in Florida, Tallahassee, Florida.

Applicant requested renewed authority to capture, mark, translocate and install artificial nesting cavities for the red-cockaded woodpecker (Picoides borealis). These activities will be conducted on National Forests throughout Florida.

Permit Application Number: TE-82796A

Applicant: Christopher McGrath, Leicester, North Carolina.

Applicant requests reauthorization to conduct presence/absence surveys and scientific studies on the following species:

Indiana bat (Myotis sodalis)

Gray bat (Myotis grisescens)

Virginia big-eared bat (Corynorhinus townsendii virginianus)

Carolina Flying Squirrel (Glaucomys sabrinus carolinensis)

These surveys will be conducted in, Virginia, Tennessee, Kentucky, North Carolina and South Carolina.

Permit Application Number: TE-171553

Applicant: The Ivory-billed Woodpecker Foundation, Gurley, Alabama.

The applicant requests renewed authorization to collect discarded feathers, feces, and egg shell fragments from Ivory-billed woodpeckers (Campephilus principalis) and to examine non-active nests sites throughout the historic range of this species.

Permit Application Number: TE-89074A

Applicant: Christopher Haggerty, Homosassa, Florida.

The applicant requests authorization to conduct scientific research involving capture and handling of reticulated flatwoods salamanders (Ambystoma bishop) and frosted flatwoods salamanders (Ambystoma cingulatum). This study will be conducted in Escambia, Okaloosa, Walton, Washington, Jackson, Liberty, Franklin, Wakulla, Jefferson, Baker and Alachua Counties, Florida.

Permit Application Number: TE-63633A

Applicant: Biodiversity Research Institute, Gorham, Maine.

The applicant requests amended authorization to expand the location they are authorized to conduct scientific research on Indiana bats (Myotis sodalis) and Gray bats (Myotis grisescens) into the states of Georgia, Ohio, Alabama, Louisiana, Mississippi and Kentucky.

Permit Application Number: TE-834056

Applicant: North Florida Wildlife LLC, Crawfordville, Florida.

Applicant requests amended authority to translocate red-cockaded woodpecker (Picoides borealis). These activities will be conducted throughout the range of the species.

Permit Application Number: TE-89083A

Applicant: Robert Bahn, Eatonton, Georgia.

The application requests authorization to conduct presence/absence surveys for the following freshwater fish species:

Etowah Darter (Etheostoma etowahae)

Amber Darter (Percina antesella)

Conasauga Logperch (Percina jenkinsi)

These surveys will be conducted in Tennessee, Georgia and Alabama.

Permit Application Number: TE-114069

Applicant: Fairchild Tropical Botanic Garden, Miami, Florida.

The applicant requests amended authorization to collect seeds and cuttings for scientific research from the following plant species:

Buxus vahlii Vahl's boxwood

Calyptranthes thomasiana

Catesbaea melanocarpa Tropical lilythorn

Zanthoxylum thomasianum St. Thomas pricklyash

Collection will be done in Miami-Dade County, Florida and Saint John, U.S. Virgin Islands.

Dated: November 9, 2012.
Mark J. Musaus,
Acting Regional Director.

[FR Doc. 2012-28558 Filed 11-23-12; 8:45 am]

BILLING CODE 4310-55-P